DEPARTMENT OF HOUSING AND URBAN DEVELOPMENT

[Docket Number FR-5099-N-02]

Public Housing Operating Fund Program; Guidance on Implementation of Asset Management

AGENCY: Office of the Assistant Secretary for Public and Indian Housing; HUD.

ACTION: Notice.

SUMMARY: Under HUD's regulations for the Public Housing Operating Fund Program, public housing agencies (PHAs) with 250 or more units are required to convert to asset management. PHAs with less than 250 units may elect to convert but are not required to do so. On September 6, 2006, HUD published a Federal Register notice providing interim guidance to assist PHAs in the conversion to asset management. On that same date, HUD posted on its Web site Public and Indian Housing (PIH) Notice 2006-33, Changes in Financial Management and Reporting Requirements for Public Housing Agencies Under the New Operating Fund Rule (24 CFR part 990), that provided interim guidance on changes in PHA financial management and reporting necessitated by the conversion to asset management. Both the September 6, 2006, Federal Register notice and PIH Notice 2006-33 were issued for public comment. This notice advises the public that HUD has posted its final guidance for both subject areas on the HUD Web site. The final guidance takes into consideration the public comments received on both sets of interim guidance, and responds to the significant issues raised by the public commenters.

FOR FURTHER INFORMATION CONTACT: Elizabeth Hanson, Deputy Assistant Secretary, Departmental Real Estate Assessment Center, Office of Public and Indian Housing, Department of Housing and Urban Development, 451 Seventh Street, SW., Washington, DC 20410; telephone 202-475-7949 (this is not a toll-free number). Individuals with speech or hearing impairments may access this number through TTY by calling the toll-free Federal Information Relay Service at 800-877-8339.

SUPPLEMENTARY INFORMATION:

I. Background

HUD's regulations for the Public Housing Operating Fund Program at 24 CFR part 990 provide the formula for distributing operating subsidy to public housing agencies (PHAs) and establish requirements for PHAs to convert to asset management. Subpart H of the part 990 regulations (§§ 990.255 to 990.290) establishes the requirements regarding asset management. Under § 990.260(a), PHAs that own and operate 250 or more dwelling rental units must operate using an asset management model consistent with the subpart H regulations. PHAs with fewer than 250 dwelling rental units may elect to transition to asset management, but are not required to do so. PHAs are required to implement property-based management, property-based budgeting, and property-based accounting, which are all defined in the subpart H regulations and are essential components of asset management.

On September 6, 2006 (71 FR 52710), HUD published a notice in the Federal Register providing interim guidance pertaining to various aspects of a PHA's conversion to asset management. Also on September 6, 2006, HUD posted on its Web site Public and Indian Housing (PIH) Notice 2006-33, providing interim guidance on changes in PHA financial management and reporting that result from the conversion to asset management. Both the September 6, 2006, Federal Register notice and PIH Notice 2006-33 were issued for public comment.

II. This Notice

This notice advises the public that HUD has posted its final guidance on the HUD Web site. The final guidance takes into consideration the public comments received on the interim guidance. Given the similarity in subject matter, the posted guidance incorporates the subject matter of the September 6, 2006, Federal Register notice and PIH Notice 2006-33. HUD has also posted a summary of the comments received on the two interim guidance documents, and HUD's responses to the comments.

The final guidance and public comment summary may be downloaded at HUD's asset management Web page: www.hud.gov/offices/pih/programs/ph/am/.

Dated: March 29, 2007.
Paula O. Blunt,
General Deputy Assistant Secretary for Public and Indian Housing.

[FR Doc. E7-7218 Filed 4-16-07; 8:45 am]

BILLING CODE 4210-67-P